DEPARTMENT OF THE INTERIOR

National Park Service

Notice of Availability of a Draft Environmental Impact Statement for Cape Hatteras National Seashore

AGENCY: National Park Service, Interior.

ACTION: Notice of Availability of a Draft Environmental Impact Statement for Cape Hatteras National Seashore.

SUMMARY: Pursuant to the National Environmental Policy Act of 1969, 42 U.S.C. 4332(2)(C), the National Park Service (NPS) announces the availability of a Draft Environmental Impact Statement for the Cape Hatteras National Seashore (Seashore) Off-Road Vehicle Management Plan (Plan/EIS). The Plan/EIS evaluates the impacts of several alternatives for regulations and procedures that would manage off-road vehicle (ORV) use/access in the Seashore to protect and preserve natural and cultural resources and natural processes, to provide a variety of visitor use experiences while minimizing conflicts among various users, and to promote the safety of all visitors. Executive Order 11644 of 1972, amended by Executive Order 11989 of 1977, requires certain Federal agencies permitting ORV use on agency lands to publish regulations designating specific trails and areas for this use. Title 36, section 4.10 of the Code of Federal Regulations implements the executive orders by providing that routes and areas designated for off-road vehicle use shall be promulgated as special regulations.

DATES: The NPS will accept comments on the Plan/EIS for 60 days following publication by the Environmental Protection Agency (EPA) of the Notice of Availability of the Draft Environmental Impact Statement. After the EPA Notice of Availability is published, the NPS will schedule hearing-style public meetings during the comment period. Dates, times, and locations of these meetings will be announced in press releases, e-mail announcements and on the NPS Planning, Environment and Public Comment (PEPC) Web site for the project at http://parkplanning.nps.gov/caha.

ADDRESSES: Copies of the Plan/EIS will be available for public review at http://parkplanning.nps.gov/caha. A limited number of hard copies are available at the Seashore headquarters, 1401 National Park Drive, Manteo, North Carolina 27954, or a copy may be requested, as long as supplies last, from Mike Murray, Superintendent, Cape Hatteras National Seashore, 1401 National Park Drive, Manteo, North Carolina 27954. Copies will be provided to local libraries in Manteo, Kill Devil Hills, Hatteras Village and Ocracoke, North Carolina.

SUPPLEMENTARY INFORMATION: This plan/EIS evaluates the impacts of two no-action (alternatives A and B) and four action alternatives (alternatives C, D, E and F). Alternative A would manage ORV use and access at the Seashore based on the 2007 Finding of No Significant Impact (FONSI) for the Cape Hatteras National Seashore Interim Protected Species Management Strategy/EA and the Superintendent's Compendium 2007, as well as elements from the 1978 draft interim ORV management plan that were incorporated in Superintendent's Order #7. Alternative B would manage ORV use in the same manner as alternative A, except as modified by the consent decree, as amended, which has been in effect at the Seashore since 2008. Alternative C would provide visitors to the Seashore with a degree of predictability regarding areas available for ORV use, as well as vehicle-free areas, based largely on the seasonal resource and visitor use characteristics of various areas in the Seashore. Under alternative D, visitors to the Seashore would have the maximum amount of predictability regarding areas available for ORV use and vehicle-free areas for pedestrian use with most areas having year-round, rather than seasonal designations. Restrictions would be applied to larger areas over longer periods of time to minimize changes in designated ORV and non-ORV areas over the course of the year. Alternative D is the environmentally preferable alternative. Alternative E would provide for additional flexibility in access for both ORV and pedestrian users, including allowing some level of overnight vehicle use at selected points and spits. Where greater access is permitted, often additional controls or restrictions are in place to limit impacts on sensitive resources. The level of access provided under alternative F is similar to alternative E, but with different limitations on allowable times and dates of ORV access. Alternative F is the NPS Preferred Alternative.

If you wish to comment electronically, you may submit your comments online in the PEPC Web site by visiting http://parkplanning.nps.gov/caha, clicking on *open for comment, clicking on the Off-Road Vehicle Management Plan/EIS, and then clicking on Comment on Document. NPS encourages commenting electronically through PEPC. If you wish to submit your written comments in hard copy (e.g. in a letter), you may send them by U.S. Postal Service or other mail delivery service or hand-deliver them to: Mike Murray, Superintendent, Cape Hatteras National Seashore, 1401 National Park Drive, Manteo, North Carolina 27954. Oral statements and written comments will also be accepted during the hearing-style public meetings. Comments will not be accepted by fax, e-mail, or in any other way than those specified above. Bulk comments in any format (hard copy or electronic) submitted on behalf of others will not be accepted. Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: Mike Murray, Superintendent, Cape Hatteras National Seashore, 1401 National Park Road, Manteo, North Carolina 27954, 252-473-2111, extension 148.

Dated: February 3, 2010.
Gordon Wissinger,
Acting Regional Director, Southeast Region.

[FR Doc. 2010-4637 Filed 3-4-10; 8:45 am]

BILLING CODE 4310-70-P